DEPARTMENT OF AGRICULTURE

Food and Nutrition Service

Agency Information Collection Activities: 2023 Farm to School Census

AGENCY: Food and Nutrition Service (FNS), USDA.

ACTION: Notice.

SUMMARY: In accordance with the Paperwork Reduction Act of 1995, this notice invites the general public and other public agencies to comment on this proposed information collection. This collection is a revision of a currently approved collection (OMB Number 0584-0646) for the 2023 Farm to School Census.

DATES: Written comments must be received on or before January 31, 2022.

ADDRESSES: Comments may be sent to: Amy Rosenthal, Food and Nutrition Service, U.S. Department of Agriculture, 1320 Braddock Place, 5th Floor, Alexandria, VA 22314. Comments may also be via email to Amy Rosenthal at amy.rosenthal@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amy Rosenthal at amy.rosenthal@usda.gov, 703-305-2245.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 2023 Farm to School Census.

OMB Number: 0584-0646.

Expiration Date: 3/31/22.

Type of Request: Revision of a currently approved collection.

Abstract: Section 18 of the Richard B. Russell National School Lunch Act authorized and funded USDA to establish a farm to school program in order to assist eligible entities, through grants and technical assistance, in implementing farm to school programs that improve food and agriculture education as well as access to local foods in schools. This work is housed within the FNS Office of Community Food Systems (OCFS). As part of the Farm to School Program's authorization, OCFS collects and disseminates information on farm to school activity throughout the country. OCFS conducted a national census of farm to school activity in 2013, 2015, and 2019. The Farm to School Census provides the only nationally-representative data available on farm to school participation and activities in the United States.

The 2023 Farm to School Census (Census) will collect and synthesize data from a national census of SFAs to better understand the characteristics of SFAs participating in farm to school and the scope and details of the activities they engage in (e.g., local food procurement, gardening, agriculture education). The Census will be distributed to all public ¹ and private SFAs (including residential child care institutions) participating in the National School Lunch Program (NSLP) in the 50 states, American Samoa, Guam, the Northern Mariana Islands, Puerto Rico, the U.S. Virgin Islands, and Washington, DC.

¹ Public includes charter schools that operate NSLP.

The primary mode of data collection will be an online survey, distributed to SFA directors. (SFA directors will also have the option to complete the survey over the phone.) The online survey is expected to take 30 minutes to complete. Census questions will be based on prior Farm to School Census instruments, from the iterations conducted in 2019 (the currently approved collection, OMB Number 0584-0646), 2015 (OMB Number 0584-0593), and 2013 (OMB Number 0536-0069). Questions will be removed, added or adjusted based on current research interests and to make the instrument as streamlined as possible.

To construct the contact list for the Census, State Child Nutrition (CN) directors will be sent a list of all SFAs in their State or territory, based on the most recently available FNS data. They will be asked to (1) add or remove any SFAs that have begun or ended participation in the NSLP and (2) provide contact information for the director of each SFA. State CN directors will also be asked to forward a notification email and two email reminders about the Census to SFAs. Directors of State agriculture departments will also be sent one email to notify them of the Census and request their assistance in encouraging SFAs in their State to complete it.

Non-respondents will receive a reminder phone call and up to ten reminder emails. Phone calls, during which SFAs will have the opportunity to complete the Census over the phone, will be conducted by trained interviewers. Staff will also be available for technical and completion assistance via a toll-free phone number.

Affected Public: The affected public includes State, Local, and Tribal Government (directors of public SFAs participating in the NSLP, State Child Nutrition directors, State Agriculture directors); Business or Other For Profit (directors of private SFAs participating in the NSLP); and Not for Profit (directors of not for profit SFAs participating in the NSLP).

Estimated Number of Respondents: The estimated number of respondents is 18,612. This includes 12,137 respondents and 6,475 non-respondents. The number of unique respondents expected to provide data for this study are 9,862 State/local government respondents (56 CN directors, 56 State Agriculture directors, 9,750 directors of public SFAs), 1,625 business respondents (directors of private SFAs), and 650 not for profit respondents (directors of not for profit SFAs). These numbers are based on an estimated 65% response rate to the survey for SFAs (based on the 2019 Census response rate) and a 100% response rate to requests to State CN and Agriculture directors

Estimated Number of Responses per Respondent: All respondents will be asked to respond to each specific data collection activity only once (with the exception of the two requests to CN directors to send reminder emails and 2 reminder emails from CN directors to SFAs). The overall average number of responses per respondent across the entire collection is 14.7.

Estimated Total Annual Responses: The estimated number of total annual responses is 274,111.

Estimated Time per Response: The estimated time of response varies from 2 minutes (for some emails) to 30 minutes (for completion of the Census survey), as shown in the burden table below. The estimated time per response is 4.75 minutes (0.08 hours).

Estimated Total Annual Burden on Respondents: 21,722 hours. This includes 15,750 hours for respondents and 5,972 hours for non-respondents. See the table below (Table 1) for estimated total annual burden for each type of respondent.

Cynthia Long,
Administrator, Food and Nutrition Service.

BILLING CODE 3410-30-P

[FR Doc. 2021-26195 Filed 12-1-21; 8:45 am]

BILLING CODE 3410-30-C